DEPARTMENT OF EDUCATION

Notice of Ratification

AGENCY: Office of the Secretary, Department of Education.

ACTION: Notice.

SUMMARY: The Department publishes a notice ratifying the actions of the Deputy Assistant Secretary for Policy and Programs for the Office of Elementary and Secondary Education (OESE) and the action of the Deputy Assistant Secretary for Administration for OESE, in publishing certain documents in the Federal Register.

FOR FURTHER INFORMATION CONTACT: Anna Hinton, Ph.D., U.S. Department of Education, Office of Elementary and Secondary Education, 400 Maryland Avenue SW, Washington, DC 20202. Telephone: (202) 260-1816. Email: Anna.Hinton@ed.gov.

If you are deaf, hard of hearing, or have a speech disability and wish to access telecommunications relay services, please dial 7-1-1.

SUPPLEMENTARY INFORMATION: The Department publishes in the Appendix of this notice a Ratification, dated November 29, 2022, affirming and ratifying the actions of the Deputy Assistant Secretary for Policy and Programs for OESE and the action of the Deputy Assistant Secretary for Administration for OESE, in publishing certain documents in the Federal Register.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site. You may also access documents of the Department published in the Federal Register by using the article search feature at www.federalregister.gov. Specifically, through the advanced search feature at this site, you can limit your search to documents published by the Department.

Miguel A. Cardona,
Secretary.

Appendix—Ratification

RATIFICATION

The U.S. Department of Education (Department) previously published in the Federal Register the following documents:

(1) A document entitled, “Proposed Priorities, Requirements, Definitions, and Selection Criteria—Expanding Opportunity through Quality Charter Schools Program (CSP)—Grants to State Entities (SE Grants); Grants to Charter Management Organizations for the Replication and Expansion of High-Quality Charter Schools (CMO Grants); and Grants to Charter School Developers for the Opening of New Charter Schools and for the Replication and Expansion of High-Quality Charter Schools (Developer Grants),” 87 FR 14197, 14210 (March 14, 2022) (“Proposed Priorities”) (available at: 2022-05463.pdf (govinfo.gov));

(2) A document entitled, “Extension of the Comment Period; Proposed Priorities, Requirements, Definitions, and Selection Criteria-Expanding Opportunity Through Quality Charter Schools Program (CSP)—Grants to State Entities (SE Grants); Grants to Charter Management Organizations for the Replication and Expansion of High-Quality Charter Schools (CMO Grants); and Grants to Charter School Developers for the Opening of New Charter Schools and for the Replication and Expansion of High-Quality Charter Schools (Developer Grants),” 87 FR 21644 (April 12, 2022) (“Extension Notice”) (available at: 2022-07911.pdf (govinfo.gov));

(3) A document entitled, “Final Priorities, Requirements, Definitions, and Selection Criteria—Expanding Opportunity Through Quality Charter Schools Program (CSP)—Grants to State Entities (State Entity Grants); Grants to Charter Management Organizations for the Replication and Expansion of High-Quality Charter Schools (CMO Grants); and Grants to Charter School Developers for the Opening of New Charter Schools and for the Replication and Expansion of High-Quality Charter Schools (Developer Grants),” 87 FR 40406, 40428 (July 6, 2022) (“Final Priorities”) (available at: 2022-14445.pdf (govinfo.gov));

(4) A document entitled, “Application for New Awards; Expanding Opportunity Through Quality Charter Schools Program (CSP)—Grants to State Entities (State Entity),” 87 FR 40204, 40217 (July 6, 2022) (“State Entity NIA”) (available at: 2022-14442.pdf (govinfo.gov)); and

(5) A document entitled, “Applications for New Awards; Expanding Opportunity Through Quality Charter Schools Program (CSP)—Grants to Charter School Developers for the Opening of New Charter Schools and for the Replication and Expansion of High-Quality Charter Schools (Developer Grants),” 87 FR 40218, 40229 (July 6, 2022) (“Developer NIA”) (available at: 2022-14448.pdf (govinfo.gov)).

Ruth E. Ryder, in her official capacity as the Deputy Assistant Secretary for Policy and Programs, Office of Elementary and Secondary Education (OESE), signed the Proposed Priorities, Final Priorities, State Entity NIA, and Developer NIA. Mark Washington, in his official capacity as the Deputy Assistant Secretary for Administration, OESE, signed the Extension Notice.

By virtue of the authority vested in the Secretary of Education by law, including under section 410 of the General Education Provisions Act (GEPA) (20 U.S.C. 1221e-3) and sections 411, 412, and 414 of the Department of Education Organization Act (DEOA) (20 U.S.C. 3471, 3472, and 3474), and being familiar with and having evaluated the foregoing Proposed Priorities, Extension Notice, Final Priorities, State Entity NIA, Developer NIA, and factual and evidentiary background, and without deference to the foregoing actions that were taken, I have independently determined that it is appropriate to affirm and ratify the foregoing actions taken by Ms. Ryder as the Deputy Assistant Secretary for Policy and Programs, OESE, and Mr. Washington, as the Deputy Assistant Secretary for Administration, OESE. I undertake this action based on my careful review and knowledge of the foregoing Proposed Priorities, Extension Notice, Final Priorities, State Entity NIA, Developer NIA, and factual and evidentiary background. Pursuant to my authority as the Secretary of Education, including under section 410 of GEPA and sections 411, 412, and 414 of the DEOA, I hereby affirm and ratify the actions of the Deputy Assistant Secretary for Policy and Programs, OESE, and the action of the Deputy Assistant Secretary for Administration, OESE, in publishing the five aforementioned documents in the Federal Register.

Miguel A. Cardona,
Secretary.

[FR Doc. 2022-26010 Filed 11-28-22; 8:45 am]

BILLING CODE 4000-01-P